DEPARTMENT OF THE TREASURY

Customs Service

19 CFR PART 10

[T.D. 00-67]

RIN 1515-AC72

African Growth and Opportunity Act and Generalized System of Preferences

AGENCY: U.S. Customs Service, Department of the Treasury.

ACTION: Interim regulations; corrections.

SUMMARY: This document makes corrections to the document published in the Federal Register on October 5, 2000, as T.D. 00-67 which set forth interim amendments to the Customs Regulations primarily to implement the trade benefit provisions for sub-Saharan Africa contained in Title I of the Trade and Development Act of 2000, referred to as the African Growth and Opportunity Act.

DATES: These corrections are effective October 1, 2000; written comments must be submitted by December 4, 2000, in the manner prescribed in T.D. 00-67.

FOR FURTHER INFORMATION CONTACT: Cynthia Reese, Office of Regulations and Rulings (202-927-1361).

SUPPLEMENTARY INFORMATION:

Background

On October 5, 2000, Customs published in the Federal Register (65 FR 59668) T.D. 00-67 to set forth interim amendments to the Customs Regulations primarily to implement the trade benefit provisions for sub-Saharan Africa contained in Title I of the Trade and Development Act of 2000. The trade benefits under Title I, also referred to as the African Growth and Opportunity Act (the AGOA), apply to sub-Saharan African countries designated by the President and involve: the extension of duty-free treatment under the Generalized System of Preferences (GSP) to non-textile articles normally excluded from GSP duty-free treatment that are not import-sensitive; and the entry of specific textile and apparel articles free of duty and free of any quantitative limits. Those interim regulatory amendments took effect on October 1, 2000, to coincide with the effective date of the relevant statutory provisions.

This document makes the following corrections to the regulatory texts published in T.D. 00-67:

1. The definition of “assembled in one or more beneficiary countries” under § 10.212 includes a parenthetical specification of items (that is, thread, decorative embellishments, buttons, zippers, or similar components) that are not considered to be components for purposes of assembly under the text. However, Customs has reconsidered this matter and now believes that inclusion of this parenthetical limiting language, which is not mandated by the statute, was in error because in some contexts it may be inconsistent with applicable judicial precedent as regards what may be considered a component for assembly purposes. Accordingly, this parenthetical reference should be removed from the text of the definition.

2. The definition of “beneficiary country” under § 10.212 refers to a finding “by the President” that the country has satisfied the requirements of section 113 of the AGOA. However, that text does not reflect the fact that in Presidential Proclamation 7350 of October 2, 2000 (published in the Federal Register at 65 FR 59321 on October 4, 2000), which implemented the AGOA, the authority to make the finding regarding the requirements of section 113 was delegated to the United States Trade Representative. To ensure consistency with this delegation, the text of the definition should include a reference to a “designee” of the President.

3. Within § 10.213, paragraph (a)(9) requires some wording changes to conform more closely to the terms of corresponding subheading 9819.11.24 which was added to the HTSUS by the Annex to Presidential Proclamation 7350.

4. Finally, within § 10.213, in paragraph (a)(10), the words “or his designee” should be added after “the President” to cover any future delegation of authority by the President in this context.

Corrections of Publication

Accordingly, the document published in the Federal Register as T.D. 00-67 on October 5, 2000 (65 FR 59668) is corrected as set forth below.

§ 10.212 [Corrected]

1. On page 59676, in the third column, in § 10.212, the definition of “assembled in one or more beneficiary countries” is corrected by removing the parenthetical phrase “(other than thread, decorative embellishments, buttons, zippers, or similar components)”.

2. On page 59676, in the third column, in § 10.212, the definition of “beneficiary country” is corrected by adding the words “or his designee” after the words “finding by the President”.

§ 10.213 [Corrected]

3. On page 59677, in the third column, in § 10.213, paragraph (a)(9) is corrected to read:

* * * * *

(a) * * *

(9) Apparel articles that are both cut (or knit-to-shape) and sewn or otherwise assembled in one or more beneficiary countries from fabrics or yarn that the President or his designee has designated in the Federal Register as not available in commercial quantities in the United States;

* * * * *

4. On page 59677, in the third column, in § 10.213, the text of paragraph (a)(10) is corrected by adding the words “or his designee” after the words “the President”.

Dated: November 3, 2000.
John P. Simpson,
Deputy Assistant Secretary of the Treasury.

[FR Doc. 00-28773 Filed 11-6-00; 4:01 pm]

BILLING CODE 4820-02-P